FEDERAL COMMUNICATIONS COMMISSION

[WT Docket No. 11-7; DA 11-58]

Glenn A. Baxter, Application To Renew License for Amateur Radio Service Station K1MAN

AGENCY: Federal Communications Commission.

ACTION: Notice.

SUMMARY: In this document, the Commission initiates a hearing proceeding before a Commission Administrative Law Judge to determine whether an application to renew the license for Amateur Radio Service Station K1MAN filed by Glenn A. Baxter should be granted.

DATES: The document was mailed to the party on February 3, 2011.

ADDRESSES: Federal Communications Commission, 445 12th St., SW., Washington, DC 20554.

FOR FURTHER INFORMATION CONTACT: Judy Lancaster, Enforcement Bureau, at Judy.Lancaster@fcc.gov or (202) 418-7584 or TTY (202) 418-1152.

SUPPLEMENTARY INFORMATION: This is a summary of the Hearing Designation Order in WT Docket No. 11-7, DA 11-58, adopted by the Commission's Wireless Telecommunications Bureau on January 10, 2011, and released on January 12, 2011. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (tty).

Synopsis of the Order

1. In this Hearing Designation Order, the Commission commences a hearing proceeding before a Commission Administrative Law Judge to determine whether the above-captioned application filed by Glenn A. Baxter for renewal of his license for Amateur Radio Station K1MAN should be granted. As discussed below, the record before us indicates that Baxter has apparently willfully and repeatedly engaged in unlawful Commission-related activities, including intentionally causing interference to ongoing communications of other amateur stations, transmitting communications in which he had a pecuniary interest, failing to file requested information pursuant to an Enforcement Bureau directive, broadcasting without communicating with any particular station, and failing to exercise control of his station. Based on the information before us, we believe that Baxter's apparent continuing course of misconduct raises a substantial and material question of fact as to whether he possesses the requisite character qualifications to be and remain a Commission licensee. Accordingly, we hereby designate his application for hearing.

2. Pursuant to sections 4(i) and 309(e) of the Communications Act of 1934, as amended, 47 U.S.C. 154(i), 309(e), the captioned application is designated for hearing in a proceeding before an FCC Administrative Law Judge, at a time and place to be specified in a subsequent Order, upon the following issues:

(a) To determine whether Glenn A. Baxter willfully and/or repeatedly violated Section 333 of the Communications Act of 1934, as amended, and § 97.101(d) of the Commission's rules, by willfully or maliciously interfering with radio communications;

(b) To determine whether Glenn A. Baxter willfully and/or repeatedly violated § 97.113(b) of the Commission's rules by broadcasting one-way communications on amateur frequencies;

(c) To determine whether Glenn A. Baxter willfully and/or repeatedly violated § 97.105 of the Commission's rules by failing to ensure the immediate proper operation of his station;

(d) To determine, in light of the evidence adduced pursuant to the foregoing issues, whether Glenn A. Baxter is qualified to be and remain a Commission licensee;

(e) To determine, in light of the evidence adduced pursuant to the foregoing issues, whether the captioned application filed by Glenn A. Baxter should be granted.

3. It is further ordered that, pursuant to section 4(i) of the Communications Act of 1934, as amended, 47 U.S.C. 154(i), and § 1.221(c) of the Commission's rules, 47 CFR 1.221(c), in order to avail himself of the opportunity to be heard, Glenn A. Baxter, in person or by his attorney, shall file with the Commission, within twenty calendar days of the mailing of this Hearing Designation Order to him, a written appearance stating that he will appear on the date fixed for hearing and present evidence on the issues specified herein.

4. It is further ordered that, pursuant to § 1.221(c) of the Commission's rules, 47 CFR 1.221(c), if Glenn A. Baxter fails to file a written appearance within the twenty-day period, or has not filed prior to the expiration of the twenty-day period, a petition to dismiss without prejudice, or a petition to accept, for good cause shown, a written appearance beyond the expiration of the twenty-day period, the Presiding Administrative Law Judge shall dismiss the captioned application with prejudice for failure to prosecute.

5. It is further ordered that the Chief, Enforcement Bureau, shall be made a party to this proceeding without the need to file a written appearance.

6. It is further ordered that, pursuant to sections 4(i) and 309(e) of the Communications Act of 1934, as amended, 47 U.S.C. 154(i), 309(e), the burden of proceeding with the introduction of evidence and the burden of proof with respect to all of the issues specified above shall be on Glenn A. Baxter.

7. It is further ordered that a copy of this Hearing Designation Order or a summary thereof shall be published in the Federal Register. This action is taken under delegated authority pursuant to §§ 0.131 and 0.331 of the Commission's rules, 47 CFR 0.131, and 0.331.

Federal Communications Commission.
Scot Stone,
Deputy Chief, Mobility Division.

[FR Doc. 2011-3145 Filed 2-10-11; 8:45 am]

BILLING CODE 6712-01-P